FEDERAL COMMUNICATIONS COMMISSION

47 CFR Part 73

[MB Docket No. 11-207; RM-11517, RM-11518, RM-11669, DA 13-2342]

Radio Broadcasting Services; Ehrenberg, First Mesa, Kachina Village, Munds Park, Wickenburg, and Williams, Arizona

AGENCY: Federal Communications Commission.

ACTION: Final rule; petition for reconsideration.

SUMMARY: The Media Bureau approves a settlement request filed by Univision Radio License Corporation (“Univision”) and Grenax Broadcasting II, LLC (“Grenax”), vacates the Report and Order in this proceeding, dismisses Grenax's Counterproposal for a new allotment on Channel 246C2 at Munds Park, Arizona, and grants Univision's Petition for Rule Making and hybrid application for an increase in existing service by its Station KHOV-FM, Wickenburg, Arizona. See SUPPLEMENTARY INFORMATION.

DATES: Effective January 21, 2014.

FOR FURTHER INFORMATION CONTACT: Andrew J. Rhodes, Media Bureau, (202) 418-2700.

SUPPLEMENTARY INFORMATION: This is a synopsis of the Commission's Memorandum Opinion and Order, MB Docket No. 11-207, adopted December 5, 2013, and released December 6, 2013. The full text of this Commission decision is available for inspection and copying during normal business hours in the FCC's Reference Information Center at Portals II, CY-A257, 445 12th Street SW., Washington, DC 20554. This document may also be purchased from the Commission's duplicating contractors, Best Copy and Printing, Inc., 445 12th Street SW., Room CY-B402, Washington, DC 20554, telephone 1-800-378-3160 or via email www.BCPIWEB.com. The Commission will send a copy of this Memorandum Opinion and Order in a report to be sent to Congress and the Governmental Accountability Office, pursuant to the Congressional Review Act, see 5 U.S.C. 801(a)(1)(A).

This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Earlier in this proceeding, the Bureau comparatively evaluated conflicting proposals filed by Grenax and Univision and found that, under Priority 4 of the FM Allotment Priorities, Grenax's proposal for a second local service at Munds Park was preferable to an increase in existing service at Wickenburg. Therefore, the Report and Order granted Grenax's Counterproposal and dismissed Univision's Petition for Rule Making and hybrid application (File No. BPH-20080915AFP). See Report and Order, 78 FR 16816, March 19, 2013.

Under the settlement, Grenax agrees to withdraw its Counterproposal for the Munds Park allotment and to implement an Order to Show Cause to change the frequency of its Station KBTK(FM), Kachina Village, Arizona, to accommodate the grant of Univision's application for an upgrade of its Station KHOV-FM, Wickenburg, from Channel 287C2 to Channel 286C0 at a new transmitter site. In return, Univision agrees to reimburse Grenax $59,628 for its legitimate and prudent expenses incurred for prosecution of its Counterproposal and for the negotiation and settlement process and an estimated $101,112 for its reasonable expenses that will be incurred in changing Station's KBTK(FM)'s frequency.

The Bureau finds that the settlement agreement complies with Section 1.420(j) of the Commission's Rules because Grenax is withdrawing its Counterproposal in return for reimbursement of its legitimate and prudent expenses that have been incurred or will be incurred under our Circleville guidelines. It also determines that the dismissal of Grenax's associated application (File No. BNPH-20120221ACZ) for a new station at Munds Park does not require republication of local notice under Section 73.3525(b) because the dismissal would not unduly impede the principles of Section 307(b) of the Communications Act as Munds Park, a small community with a population of 631 persons, already has one local service. Additionally, the Section 307(b) preference was made under Priority 4. The Bureau further concludes that grant of Univision's application (File No. BPH-20080915AFP) will serve the public interest because it will provide a net gain of service to 1,294,275 persons with no loss of service.

To accommodate Univision's application, the Bureau grants the allotments proposed in the Petition for Rule Making. First, the Bureau modifies the license of Station KBTK(FM), Kachina Village, to specify operation on Channel 246C2 in lieu of Channel 286C2. Second, it substitutes Channel 228C2 for vacant Channel 286C2 at Ehrenberg, Arizona at reference coordinates of 33-36-54 NL and 114-24-14 WL. Third, the Bureau retains Channel 281C at First Mesa, Arizona, at reference coordinates of 35-41-09 NL and 110-21-43 WL because this channel was already substituted for vacant Channel 247C at First Mesa in the Report and Order.

Due to changes to the Commission's processing rules, modifications of FM channels for existing stations are reflected in the Media Bureau's Consolidated Data Base System (“CDBS”) instead of being listed in Section 73.202(b). See Revision of Procedures Governing Amendments to FM Table of Allotments and Changes of Community of License in the Radio Broadcast Services, Report and Order, 21 FR 76208, December 20, 2006. Accordingly, the CDBS will reflect Channel 286C0 at Wickenburg, Arizona, as the reserved assignment for Station KHOV-FM in lieu of Channel 287C2, and Channel 246C2 at Kachina Village, Arizona, as the reserved assignment for Station KBTK(FM) in lieu of Channel 286C2.

List of Subjects in 47 CFR Part 73

Radio, Radio broadcasting.

Federal Communications Commission.
Nazifa Sawez,
Assistant Chief, Audio Division, Media Bureau.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Arizona, is amended by removing Channel 286C2 at Ehrenberg and by adding Channel 228C2 at Ehrenberg, and by removing Munds Park, Channel 246C2.

[FR Doc. 2014-00771 Filed 1-16-14; 8:45 am]

BILLING CODE 6712-01-P